ENVIRONMENTAL PROTECTION AGENCY

[ER-FRL-9009-8]

Environmental Impacts Statements; Notice of Availability

Responsible Agency: Office of Federal Activities, General Information (202) 564-7146 or http://www.epa.gov/compliance/nepa/.

Weekly receipt of Environmental Impact Statements

Filed 06/17/2013 Through 06/21/2013

Pursuant to 40 CFR 1506.9.

Notice

Section 309(a) of the Clean Air Act requires that EPA make public its comments on EISs issued by other Federal agencies. EPA's comment letters on EISs are available at: http://www.epa.gov/compliance/nepa/eisdata.html.

EIS No. 20130178, Draft EIS, USACE, FL, Port Everglades Harbor Navigation Improvements, Comment Period Ends: 08/13/2013, Contact: Terri Jordan-Sellers 904-232-1817.

EIS No. 20130179, Draft EIS, BLM, WY, Buffalo Field Office Planning Area Resource Management Plan, Comment Period Ends: 09/28/2013, Contact: Thomas Bills 307-684-1133.

EIS No. 20130180, Draft EIS, BLM, WAPA, 00, TransWest Express Transmission Project, Comment Period Ends: 09/25/2013, Contact: Sharon Knowlton 307-775-6124.

The U.S. Department of the Interior's Bureau of Land Management and the U.S. Department of Energy's Western Area Power Administration are joint lead agencies for the above project.

EIS No. 20130181, Final EIS, USAF, AK, Modernization and Enhancement of Ranges, Airspace and Training Areas in the Joint Pacific Alaska Range Complex in Alaska, Review Period Ends: 07/29/2013, Contact: Tania Bryan 907-552-2341.

EIS No. 20130182, Draft EIS, EPA, LA, Designation of the Atchafalaya River Bar Channel Ocean Dredged Material Disposal Site West, Pursuant to Section 102(c) of the Marine Protection, Research, and Sanctuaries Act of 1972, Comment Period Ends: 08/12/2013, Contact: Jessica Franks 214-665-8335.

EIS No. 20130183, Final Supplement, NRC, NY, Generic—License Renewal of Nuclear Plants, Supplement 38, Regarding Indian Point Nuclear Generating Unit Nos. 2 and 3, Review Period Ends: 07/29/2013, Contact: Lois James 301-415-3306.

EIS No. 20130184, Draft Supplement, FHWA, AK, Gravina Access Project, Comment Period Ends: 08/13/2013, Contact: Kris Riesenberg 907-465-7413 EIS No. 20130185, Draft Supplement, Caltrans, CA, San Diego Freeway (I-405) Improvement Project, Comment Period Ends: 08/12/2013, Contact: Smita Deshpande 949-724-2000.

Dated: June 25, 2013.
Cliff Rader,
Director, NEPA Compliance Division, Office of Federal Activities.

[FR Doc. 2013-15612 Filed 6-27-13; 8:45 am]

BILLING CODE 6560-50-P